POSTAL REGULATORY COMMISSION

[Docket No. CP2013-71; Order No. 1770]

New Postal Product

AGENCY: Postal Regulatory Commission.

ACTION: Notice.

SUMMARY: The Commission is noticing a recent Postal Service filing concerning the addition of Global Expedited Package Services (GEPS) 3 negotiated service agreement to the competitive product list. This notice informs the public of the filing, invites public comment, and takes other administrative steps.

DATES: Comments are due: July 8, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Background

III. Contents of Filing

IV. Commission Action

V. Ordering Paragraph

I. Introduction

On June 28, 2013, the Postal Service filed a notice stating that it has entered into an additional Global Expedited Package Services (GEPS) 3 negotiated service agreement (Agreement).¹ The Postal Service seeks inclusion of the Agreement within the GEPS 3 product. Id. at 2.

¹ Notice of United States Postal Service of Filing a Functionally Equivalent Global Expedited Package Services 3 Negotiated Service Agreement and Application for Non-Public Treatment of Materials Filed Under Seal, June 28, 2013 (Notice).

II. Background

The Commission first approved the addition of a GEPS negotiated service agreement to the competitive product list as a result of consideration of Governors' Decision No. 08-7 in Docket No. CP2008-5.² The Commission later added GEPS 3 to the competitive product list and authorized the agreement filed in Docket No. CP2010-71 to serve as the baseline agreement for comparison of potentially functionally equivalent agreements.³

² See Order No. 86, Docket No. CP2008-5, Order Concerning Global Expedited Package Services Contracts, June 27, 2008.

³ See Order No. 503, Docket Nos. MC2010-28 and CP2010-71, Order Approving Global Expedited Package Services 3 Negotiated Service Agreement, July 29, 2010.

The effective date of the Agreement will be established by the Postal Service after it has received all regulatory approvals. Id. Attachment 1 at 6. It is set to expire on the last day of the month which falls one calendar year from the effective date. Id.

III. Contents of Filing

The Notice includes the following attachments:

• Attachment 1—a redacted copy of the Agreement;

• Attachment 2—a redacted copy of the certified statement required by 39 CFR 3015.5(c)(2);

• Attachment 3—a redacted copy of Governors' Decision No. 08-7, which establishes prices and classifications for Global Expedited Package Services Contracts; and

• Attachment 4—an application for non-public treatment of materials to be filed under seal.

Materials filed under seal include unredacted copies of the Agreement, the certified statement, and supporting financial workpapers. Id. Attachment 4 at 3. The Postal Service filed redacted versions of the financial workpapers as public Excel files.

In the Notice, the Postal Service asserts that the Agreement is functionally equivalent to the GEPS 3 baseline agreement, notwithstanding differences in two of the introductory paragraphs of the Agreement; revisions to several existing articles; new, deleted, and renumbered articles; and addition of an Annex 2. Id. at 3-7. The Postal Service states that these differences affect neither the fundamental service being offered under the Agreement nor the Agreement's fundamental structure. Id. at 7.

The Postal Service concludes that the Agreement is in compliance with the requirements of 39 U.S.C. 3633 and that the Agreement is functionally equivalent to the baseline agreement. Id. The Postal Service therefore requests that the Commission add the Agreement to the GEPS 3 product. Id.

IV. Commission Action

The Commission establishes Docket No. CP2013-71 for consideration of matters raised by the Notice. Interested persons may submit comments on whether the Postal Service's filings are consistent with 39 U.S.C. 3632, 3633, or 3642, 39 CFR part 3015, and subpart B of 39 CFR part 3020. Comments are due no later than July 8, 2013. The public portions of the Postal Service's filing can be accessed via the Commission's Web site, http://www.prc.gov. Information concerning access to non-public material is located in 39 CFR part 3007.

The Commission appoints Pamela A. Thompson to serve as Public Representative in the above captioned proceeding.

V. Ordering Paragraph

It is ordered:

1. The Commission establishes Docket No. CP2013-71 for consideration of the matters raised by the Postal Service's Notice.

2. Comments by interested persons in this proceeding are due no later than July 8, 2013.

3. Pursuant to 39 U.S.C. 505, the Commission appoints Pamela A. Thompson to serve as an officer of the Commission (Public Representative) to represent the interests of the general public in this docket.

4. The Secretary shall arrange for publication of this order in the Federal Register.

By the Commission.
Shoshana M. Grove,
Secretary.

[FR Doc. 2013-16266 Filed 7-5-13; 8:45 am]

BILLING CODE 7710-FW-P